DEPARTMENT OF TRANSPORTATION

Federal Aviation Administration

Fourth Meeting: RTCA Special Committee 226, Audio Systems and Equipment

AGENCY: Federal Aviation Administration (FAA), U.S. Department of Transportation (DOT).

ACTION: Meeting notice of RTCA Special Committee 226, Audio Systems and Equipment.

SUMMARY: The FAA is issuing this notice to advise the public of the fourth meeting of the RTCA Special Committee 226, Audio Systems and Equipment.

DATES: The meeting will be held October 16-18, 2012 from 9 a.m.-5 p.m.

ADDRESSES: The meeting will be held at RTCA, Inc., 1150 18th Street NW., Suite 910, Washington, DC, 20036.

FOR FURTHER INFORMATION CONTACT: The RTCA Secretariat, 1150 18th Street NW., Suite 910, Washington, DC, 20036, or by telephone at (202) 330-0652/(202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 226. The agenda will include the following:

• Welcome and Administrative Remarks

• Introductions

• Agenda Overview

• Review previous action items

• Solicit proposals for further changes to DO-214

• Initiate discussion on TSO-C99A (Oxygen Mask Communication)

• Continue discussion on the following:

• Risks of usage of adaptive technology during test

• Proposed committee letter to invite additional headsets, MIC's and CVR manufacturers

• Addition of noise test requirement to the vibration test variable nature of Oxygen Mask

• Microphone and Hand Microphone performance in the marketplace

• Review of proposal to remove CVR Area Microphone requirements from standard in lieu of ED-112

• Discussion on ANR white paper

• Sensitivity versus output power as they correlate with its specified ratings

• Continue review of DO-214 and draft updates/changes

• Draft language for noise test requirement to combine with the vibration test

• Other Business

• Establish agenda for next meeting

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on September 11, 2012.
David Sicard,
Manager, Business Operations Group, Federal Aviation Administration.

[FR Doc. 2012-22992 Filed 9-18-12; 8:45 am]

BILLING CODE 4910-13-P